DEPARTMENT OF HEALTH AND HUMAN SERVICES

National Institutes of Health

Center for Scientific Review; Amended Notice of Meeting

Notice is hereby given of a change in the meeting of the Center for Scientific Review Special Emphasis Panel, Special Topics: Noninvasive Neuromodulation and Neuroimaging Technologies February 23, 2024, 09:00 a.m. to February 23, 2024, 08:00 p.m., Washington Marriott Georgetown, 1221 22nd Street NW, Washington, DC 20037 which was published in the Federal Register on February 01, 2024, 89 FR 6531, Doc 2024-01958.

This meeting is being amended to change the location from Washington Marriott, Georgetown 1221 22nd Street NW, Washington, DC 20037 to Embassy Suites Alexandria 1900 Diagonal Road, Alexandria, VA 22314. The meeting is closed to the public.

Dated: February 2, 2024.
Lauren Fleck,
Program Analyst, Office of Federal Advisory Committee Policy.

[FR Doc. 2024-02486 Filed 2-6-24; 8:45 am]

BILLING CODE 4140-01-P